DEPARTMENT OF HOMELAND SECURITY

Coast Guard

33 CFR Part 100

[Docket No. USCG-2013-0369]

RIN 1625-AA08

Special Local Regulation; Kelley's Island Swim, Lake Erie; Kelley's Island, Lakeside, OH

AGENCY: Coast Guard, DHS.

ACTION: Notice of enforcement of regulation.

SUMMARY: The Coast Guard will regulate vessel movement in portions of Lake Erie during the annual Kelley's Island Swim from. This special local regulated area is necessary to protect swimmers from vessel traffic.

DATES: The regulations in 33 CFR 100.921 will be enforced between 7 a.m. and 11 a.m. on July 10, 2013.

FOR FURTHER INFORMATION CONTACT: If you have questions on this notice, call or email MST2 Annaliese Ennis, Assistant Waterways Branch Chief, Marine Safety Unit Toledo, 420 Madison Ave., Suite 700, Toledo, OH 43604; telephone (419) 418-6041; email Annaliese.K.Ennis@uscg.mil.

SUPPLEMENTARY INFORMATION: The Coast Guard will enforce the special local regulations listed in 33 CFR 100.921 Special Local Regulation; Kelley's Island Swim, Lake Erie, Lakeside, OH, which was published in the December 3, 2012, issue of the Federal Register (77 FR 71531). These special local regulations will be enforced from 7 a.m. until 11 a.m. on July 10, 2013. Pursuant to 33 U.S.C. 1236 and 33 CFR 27.3, those who fail to comply with the special local regulations in 33 CFR 100.921 during this enforcement period will be subject to a civil penalty of up to $8,000.

Under the provisions of 33 CFR 100.921, vessels transiting within the regulated area shall travel at a no-wake speed and remain vigilant for event participants and safety craft. Additionally, vessels shall yield right-of-way for event participants and event safety craft and shall follow directions given by the Coast Guard's on-scene representative or by event representatives during the event. The “on-scene representative” of the Captain of the Port Detroit is any Coast Guard commissioned, warrant, or petty officer who has been designated by the Captain of the Port Detroit to act on his behalf. The on-scene representative of the Captain of the Port Detroit will be aboard either a Coast Guard or Coast Guard Auxiliary vessel. The Captain of the Port, Sector Detroit or his designated on scene representative may be contacted via VHF Channel 16.

This notice is issued under the authority of 33 CFR 100.921 and 5 U.S.C. 552(a).

Dated: May 28, 2013.
J. E. Ogden,
Captain, U.S. Coast Guard, Captain of the Port Detroit.

[FR Doc. 2013-13906 Filed 6-11-13; 8:45 am]

BILLING CODE 9110-04-P